DEPARTMENT OF VETERANS AFFAIRS

Advisory Committee on Homeless Veterans; Notice of Meeting

The Department of Veterans Affairs (VA), in accordance with Public Law 92-463 (Federal Advisory Committee Act), gives notice that a meeting of the Advisory Committee on Homeless Veterans will be held from Thursday, December 12, 2002 through Friday, December 13, 2002, at the VA Service Center, 2nd Floor—VOA Meeting Room, 1492 West Flagler Street, Miami, FL 33135. A public meeting will convene Thursday and Friday at 8:30 a.m. and end at 4 p.m. daily. There will be a town hall forum on Thursday from 4 p.m. to 6 p.m. at St. John Bosco Church, 1301 West Flager Street, Miami, FL 33135. The meeting and town hall forum are open to the public. Members of the public must sign up at the town hall meeting in order to speak at the town hall forum. The purpose of the Committee is to advise the Secretary of Veterans Affairs with an on-going assessment of the effectiveness of the policies, organizational structures, and services of the Department in assisting homeless veterans. The Committee shall assemble and review information relating to the needs of homeless veterans and provide on-going advice on the most appropriate means of providing assistance to homeless veterans. The Committee will make recommendations to the Secretary regarding such activities.

On December 12, the Committee will receive information about efforts to coordinate services and increase veteran access to homeless services from VA and other health and benefits programs and review new initiatives to assist veterans. A town hall forum will be held to hear comments and concerns from current and formerly homeless veterans, service providers, faith-based organizations and tribal governments. On December 13, the Committee will continue reviews of presentations and discuss future actions for the Committee including formulation of Committee recommendations.

Those wishing to attend the meeting should contact Mr. Pete Dougherty, Department of Veterans Affairs, at (202) 273-5764. No time will be allocated for receiving oral presentations from the public, except during the town hall forum. However, the Committee will accept written comments from interested parties on issues affecting homeless veterans. Such comments should be referred to the Committee at the following address: Advisory Committee on Homeless Veterans, Homeless Veterans Programs Office (075D), U.S. Department of Veterans Affairs, 810 Vermont Avenue, NW., Washington, DC 20420.

Dated: November 12, 2002.
By Direction of the Secretary.
Nora E. Egan,
Committee Management Officer.

[FR Doc. 02-29269 Filed 11-18-02; 8:45 am]

BILLING CODE 8320-01-M